ENVIRONMENTAL PROTECTION AGENCY

[FRL-7031-8]

Office of Research and Development; Board of Scientific Counselors Subcommittee Review of the National Center for Environmental Research

AGENCY: Environmental Protection Agency (EPA).

ACTION: Notice of review.

SUMMARY: Pursuant to the Federal Advisory Committee Act, Public Law 92-463, as amended (5 U.S.C. App. 2) notification is hereby given that the Environmental Protection Agency, Office of Research and Development (ORD), Board of Scientific Counselors Subcommittee will meet to review the National Center for Environmental Research.

DATES: The review will be held on September 13-14, 2001. On Thursday, September 13, 2001, the review will begin at 9 a.m., and will recess at 3 p.m. On Friday, September 14, 2001, the review will reconvene at 8:30 a.m. and adjourn at approximately 12 noon. All times noted are Eastern Time.

ADDRESSES: The review will be held at the Ronald Reagan building, 1300 Pennsylvania, NW., Room 51109, Washington, DC 2004.

SUPPLEMENTARY INFORMATION: Anyone desiring a draft agenda may fax their request to Betty Overton (202) 565-2444. The meeting is open to the public. Any member of the public wishing to make comments at the meeting should contact Betty Overton, Designated Federal Officer, U.S. Environmental Protection Agency, Board of Scientific Counselors, Office of Research and Development (8701R), 1200 Pennsylvania Avenue, NW., Washington, DC 20460 by telephone at (202) 564-6848. In general, each individual making on oral presentation will be limited to three minutes.

FOR FURTHER INFORMATION CONTACT: Betty Overton, Designated Federal Officer, U.S. Environmental Protection Agency, Office of Research and Development (8701R), 1200 Pennsylvania Avenue, NW., DC 20460, (202) 564-6848.

Dated: August 7, 2001.
Peter W. Preuss,
Director, National Center for Environmental Research.

[FR Doc. 01-20213 Filed 8-10-01; 8:45 am]

BILLING CODE 6560-50-M